DEPARTMENT OF HEALTH AND HUMAN SERVICES

National Institutes of Health

National Cancer Institute; Amended Notice of Meeting

Notice is hereby given of a change in the meeting of the National Cancer Institute Council of Research Advocates, June 26, 2024, 12:00 p.m. to June 26, 2024, 3:00 p.m., National Institutes of Health, Building 31, 9000 Rockville Pike, Bethesda, MD, 20892 (Virtual Meeting), which was published in the Federal Register on June 11, 2024, FR Doc. 2024-12736, 89 FR 49181.

This notice is being amended to change the meeting start and end times. The meeting will now be held from 12:15 p.m. to 3:15 p.m. instead of from 12:00 p.m. to 3:00 p.m. The meeting is open to the public.

Dated: June 21, 2024.
David W. Freeman,
Supervisory Program Analyst, Office of Federal Advisory Committee Policy.

[FR Doc. 2024-14026 Filed 6-25-24; 8:45 am]

BILLING CODE 4140-01-P